DEPARTMENT OF ENERGY

Federal Energy Regulatory Commission

[Project No. 137-002]

Pacific Gas & Electric Company; Notice of Meeting

February 4, 2000.

Take notice the Ecological Resources subgroup of the Mokelumne Relicensing Collaborative will meet on Thursday, February 10, 2000, from 9 a.m. to 6 p.m.; February 23-25, March 1-2, and March 22-23, 2000, from 9 a.m. to 4 p.m.

Take notice the Recreation subgroup will meet on Monday, February 14, and March 21-23, 2000, from 9 a.m. to 4 p.m. The meetings of the Ecological Resources and Recreation subgroups will be held at the PG&E offices, 2740 Gateway Oaks Drive, in Sacramento, California. Expected participants need to give their names to David Moller (PG&E) at (415) 973-4696.

For further information, please contact Diana Shannon at (202) 208-7774.

Linwood A. Watson, Jr.,
Acting Secretary.

[FR Doc. 00-3044 Filed 2-9-00; 8:45 am]

BILLING CODE 60717-01-M